SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: February 1-29, 2016, and April 1-30, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, being rescinded for the consumptive use of water pursuant to the Commission's approval by rule process set forth in 18 CFR 806.22(e) and § 806.22(f) for the time period specified above:

Rescinded ABR Issued

1. Seneca Resources Corporation, Pad ID: DCNR 595 1V, ABR-20090432.R1, Bloss Township, Tioga County, Pa.; Rescind Date: February 4, 2016.

2. Seneca Resources Corporation, Pad ID: DCNR Tract 007 1V, ABR-20100613.R1, Shippen Township, Tioga County, Pa.; Rescind Date: February 4, 2016.

3. Seneca Resources Corporation, Pad ID: DCNR Tract 007 1H, ABR-201008045.R1, Shippen Township, Tioga County, Pa.; Rescind Date: February 4, 2016.

4. Seneca Resources Corporation, Pad ID: DCNR 100 Pad D 85V, ABR-201107007, McIntyre Township, Lycoming County, Pa.; Rescind Date: February 4, 2016.

5. Seneca Resources Corporation, Pad ID: DCNR 595 Pad E 70V, ABR-201108025.R1, Blossburg Borough, Tioga County, Pa.; Rescind Date: February 4, 2016.

6. Seneca Resources Corporation, Pad ID: DCNR 007 Pad G 10V, ABR-201107006, Shippen Township, Tioga County, Pa.; Rescind Date: February 4, 2016.

7. Seneca Resources Corporation, Pad ID: DCNR 007 Pad D 11V, ABR-201107031, Delmar Township, Tioga County, Pa.; Rescind Date: February 4, 2016.

8. Seneca Resources Corporation, Pad ID: DCNR 007 Pad D, ABR-201112034, Delmar Township, Tioga County, Pa.; Rescind Date: February 4, 2016.

9. Seneca Resources Corporation, Pad ID: DCNR 007 Pad H 12V, ABR-201107034, Delmar Township, Tioga County, Pa.; Rescind Date: February 4, 2016.

10. Seneca Resources Corporation, Pad ID: DCNR 007 Pad T 20V, ABR-201107027, Gaines Township, Tioga County, Pa.; Rescind Date: February 4, 2016.

11. Seneca Resources Corporation, Pad ID: DCNR 595 Pad I 1V, ABR-201107005, Bloss Township, Tioga County, Pa.; Rescind Date: February 4, 2016.

12. Seneca Resources Corporation, Pad ID: DCNR 007 Pad K 49V, ABR-201111030, Delmar Township, Tioga County, Pa.; Rescind Date: February 4, 2016.

13. Seneca Resources Corporation, Pad ID: DCNR 100 Pad A, ABR-201110006, McInyre Township, Lycoming County, Pa.; Rescind Date: February 4, 2016.

14. Seneca Resources Corporation, Pad ID: DCNR 100 Pad L, ABR-201201032, Lewis Township, Lycoming County, Pa.; Rescind Date: February 4, 2016.

15. Seneca Resources Corporation, Pad ID: DCNR 001 Pad C, ABR-201112035, Ulysses Township, Potter County, Pa.; Rescind Date: February 4, 2016.

16. Seneca Resources Corporation, Pad ID: DCNR 007 Pad C, ABR-201103042, Shippen and Delmar Townships, Tioga County, Pa.; Rescind Date: February 4, 2016.

17. Seneca Resources Corporation, Pad ID: DCNR 001 Pad G, ABR-201102003, Sweden Township, Potter County, Pa.; Rescind Date: February 4, 2016.

18. Seneca Resources Corporation, Pad ID: DCNR 007 Pad L, ABR-201104022, Shippen Township, Tioga County, Pa.; Rescind Date: February 4, 2016.

19. Seneca Resources Corporation, Pad ID: DCNR 001 Pad E, ABR-201112037, Ulysses Township, Potter County, Pa.; Rescind Date: February 4, 2016.

20. Seneca Resources Corporation, Pad ID: DCNR 007 Pad R, ABR-201112036, Shippen and Delmar Townships, Tioga County, Pa.; Rescind Date: February 4, 2016.

21. Seneca Resources Corporation, Pad ID: Marvin 1V Pad, ABR-20090934.R1, Covington Township, Tioga County, Pa.; Rescind Date: February 4, 2016.

22. Seneca Resources Corporation, Pad ID: Rich Valley 1V Pad, ABR-20091227.R1, Shippen Township, Cameron County, Pa.; Rescind Date: February 4, 2016.

23. Seneca Resources Corporation, Pad ID: Rich Valley Pad B, ABR-201108008, Shippen Township, Cameron County, Pa.; Rescind Date: February 4, 2016.

24. Seneca Resources Corporation, Pad ID: Wilcox (TEOG 1), ABR-20090433.R1, Covington Township, Tioga County, Pa.; Rescind Date: February 4, 2016.

25. Seneca Resources Corporation, Pad ID: Wolfinger, ABR-20091229.R1, Shippen Township, Cameron County, Pa.; Rescind Date: February 4, 2016.

26. Seneca Resources Corporation, Pad ID: DCNR 595 Pad N, ABR-201109034, Bloss Township, Tioga County, Pa.; Rescind Date: April 13, 2016.

Authority: Pub. L. 91-575, 84 Stat. 1509 et seq., 18 CFR parts 806, 807, and 808.

Dated: June 9, 2016.
Stephanie L. Richardson,
Secretary to the Commission.

[FR Doc. 2016-14202 Filed 6-15-16; 8:45 am]

BILLING CODE 7040-01-P